DEPARTMENT OF TRANSPORTATION

Federal Aviation Administration

Receipt of Noise Compatibility Program Modification and Request for Review Sarasota-Bradenton International Airport, Sarasota, FL

AGENCY: Federal Aviation Administration, DOT.

ACTION: Notice.

SUMMARY: The Federal Aviation Administration (FAA) announces that it is reviewing a proposed Noise Compatibility Program (NCP) Modification that was submitted for Sarasota-Bradenton International Airport under the provisions of Title I of the Aviation Safety and Noise Abatement Act of 1979 (Public Law 96-193) (hereafter referred to as “the Act”) and 14 CFR Part 150 by the Sarasota Manatee Airport Authority (SMAA), Sarasota, Florida. This program modification proposes to review the NCP approved on October 9, 1997, to reflect new constructive dates for eligibility for three abatement measures offered to homeowners of eligible properties within the program boundaries. These new dates are the only changes to the approved NCP. This program modification was submitted subsequent to a determination by FAA that the associated existing noise exposure maps submitted under 14 CFR Part 150 for the Sarasota-Bradenton International Airport were in compliance with applicable requirements effective May 7, 1996, for the current conditions noise exposure map and June 5, 2000, for the future conditions (5-year) noise exposure map. The proposed noise compatibility program modification will be approved or disapproved on or before December 2, 2000.

EFFECTIVE DATE: The effective date of the start of FAA's review of the proposed noise compatibility program modification is June 5, 2000. The public comment period ends August 4, 2000.

FOR FURTHER INFORMATION CONTACT: Mr. Tommy J. Pickering, Federal Aviation Administration, Orlando Airports District Office, 5950 Hazeltine National Drive, Suite 400, Orlando, Florida 32822-5024, (407) 812-6331, Extension 29. Comments on the proposed noise compatibility program modification should also be submitted to the above office.

SUPPLEMENTARY INFORMATION: This notice announces that the FAA is reviewing a proposed noise compatibility program modification submitted for Sarasota-Bradenton International Airport which will be approved or disapproved on or before December 2, 2000. This notice also announces the availability of this program modification for public review and comment.

An airport operator who has submitted noise exposure maps that are found by FAA to be in compliance with the requirements of Federal Aviation Regulations (FAR) Part 150, promulgated pursuant to Title I of the Act, may submit a noise compatibility program for FAA approval which sets forth the measures the operator has taken or proposes for the reduction of existing noncompatible uses and for the prevention of the introduction of additional noncompatible uses.

The FAA has formally received the noise compatibility program modification for Sarasota-Bradenton International Airport, effective on June 5, 2000. It was requested that the FAA review this material and that the modified noise mitigation measures, to be implemented jointly by the airport and surrounding communities, be approved as a modification to an approved noise compatibility program under section 104(b) of the Act. Preliminary review of the submitted material indicates that it conforms to the requirements for the submittal of noise compatibility programs, but that further review will be necessary prior to approval or disapproval of the program modification. The formal review period, limited by law to a maximum of 180 days, will be completed on or before December 2, 2000.

The FAA's detailed evaluation will be conducted under the provisions of 14 CFR Part 150, Section 150.33. The primary considerations in the evaluation process are whether the proposed measures may reduce the level of aviation safety, create an undue burden on interstate or foreign commerce, or be reasonably consistent with obtaining the goal of reducing existing noncompatible land uses and preventing the introduction of additional noncompatible land uses.

Interested persons are invited to comment on the proposed program modification with specific reference to these factors. All comments, other than those properly addressed to local land use authorities, will be considered by the FAA to the extent practicable. Copies of the noise exposure maps and the proposed noise compatibility program modification are available for examination at the following locations:

Federal Aviation Administration, Orlando Airports District Office, 5950 Hazeltine National Drive, Suite 400, Orlando, Florida 32822-5024.

Sarasota Manatee Airport Authority, Sarasota-Bradenton International Airport, 6000 Airport Circle, Sarasota, FL 34243.

Questions may be directed to the individual named above under the heading, FOR FURTHER INFORMATION CONTACT:

Issued in Orlando, Florida June 5, 2000.
John W. Reynolds Jr.,
Assistant Manager, Orlando Airport District Office.

[FR Doc. 00-15414 Filed 6-16-00; 8:45 am]

BILLING CODE 4910-13-M